DEPARTMENT OF TRANSPORTATION

Surface Transportation Board

49 CFR Part 1109

[STB Ex Parte No. 586]

Arbitration—Various Matters Relating To Its Use as an Effective Means of Resolving Disputes That Are Subject to the Board's Jurisdiction

AGENCY: Surface Transportation Board, DOT.

ACTION: Final rule.

SUMMARY: The Surface Transportation Board (Board) is making a technical amendment to its regulation on confidentiality in administrative dispute resolution matters, in order to correct a statutory reference to the Administrative Dispute Resolution Act, the numbering of which has changed.

EFFECTIVE DATE: May 28, 2002.

FOR FURTHER INFORMATION CONTACT: Joseph H. Dettmar, (202) 565-1600. (TDD for the hearing impaired: (800) 877-8339).

SUPPLEMENTARY INFORMATION: A technical revision to 49 CFR 1109.3 is made to change the reference (relating to the confidentiality of ADR procedures) from “5 U.S.C. 584” to “5 U.S.C. 574” to reflect the transfer made by Public Law 102-354, section 3(b)(2), August 26, 1992, 106 Stat. 944. Because this change is merely a technical correction, it is being implemented without requesting public comment.

Small Entities: The Board certifies that this rule will not have a significant economic effect on a substantial number of small entities.

Environment: This action will not significantly affect either the quality of the human environment or the conservation of energy resources.

List of Subjects in 49 CFR Part 1109

Administrative practice and procedures.

Authority: 49 U.S.C. 721(a).

Decided: May 20, 2002.
By the Board, Chairman Morgan and Vice Chairman Burkes.
Vernon A. Williams,
Secretary.

For the reasons set forth in the preamble, title 49, chapter X, Part 1109 of the Code of Federal Regulations, is amended as follows:

PART 1109—USE OF ALTERNATIVE DISPUTE RESOLUTION IN BOARD PROCEEDINGS AND THOSE IN WHICH THE BOARD IS A PARTY

1. The authority citation for part 1109 continues to read as follows:

Authority: 5 U.S.C. 571 et seq.

2. Revise § 1109.3 to read as follows:

§ 1109.3 Confidentiality in ADR Matters

In all ADR matters involving the Board, whether under the Administrative Dispute Resolution Act or not, the confidentiality provisions of that Act (5 U.S.C. 574) shall bind the Board and all parties and neutrals in those ADR matters.

[FR Doc. 02-13258 Filed 5-24-02; 8:45 am]

BILLING CODE 4915-00-P